CORPORATION FOR NATIONAL AND COMMUNITY SERVICE

New Information Collection; Submission for OMB Review; Comment Request

AGENCY: Corporation for National and Community Service.

ACTION: Notice.

SUMMARY: The Corporation for National and Community Service (hereinafter the “Corporation”), has submitted a proposed new public information collection request (ICR) entitled Parent Corps Evaluation to the Office of Management and Budget (OMB) for review and approval in accordance with the Paperwork Reduction Act of 1995 (Pub. L. 104-13), (44 U.S.C. chapter 35). Copies of this ICR, with applicable supporting documentation, may be obtained by calling the Corporation for National and Community Service, Kelly Arey, (202) 606-5000, ext. 197. Individuals who use a telecommunications device for the deaf (TTY-TDD) may call (202) 565-2799 between 8:30 a.m. and 5 p.m. eastern time, Monday through Friday.

DATES: Comments must be received on or before June 25, 2004.

ADDRESSES: Comments may be submitted, identified by the title of the information collection activity, by any of the following two methods:

(1) By fax to: (202) 395-6974, Attention: Ms. Katherine Astrich, OMB Desk Officer for the Corporation for National and Community Service; and

(2) Electronically by e-mail to: Katherine_Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Type of Review: New.

Agency: Corporation for National and Community Service.

Title: Parent Corps Evaluation.

OMB Number: None.

Agency Number: None.

Affected Public: Individuals and households.

Total Respondents: 3,700.

Frequency: Annually.

Average Time per Response: 15 minutes.

Estimated Total Burden Hours: 1,654 hours.

Total Burden Cost (capital/startup): None.

Total Burden Cost (operating/maintenance): None.

Description

Parent Corps Evaluation: The Corporation proposes to conduct an evaluation of the Parent Corps program. The Parent Corps is a three-year effort to create a national training system and network of volunteer parents engaged in a nationwide substance abuse prevention effort. Using a “training the trainer” model, organizations will work with volunteer coordinators to train and support volunteer parents of children aged 18 or younger in providing drug prevention training.

The specific aims of this evaluation are to describe the implementation of the Parent Corps program (implementation evaluation) and to evaluate its impact on desired outcomes (experimental impact evaluation). The implementation evaluation will include all 20 schools to be targeted by the Parent Corps. The randomized experiment impact evaluation will include parents and children at 18 schools (9 schools targeted by the Parent Corps and 9 control schools). These 18 treatment and control schools will be selected via the Parent Corps' request for applications process.

Key research questions include changes in the following outcomes: perceived risk/harm from youth substance use (tobacco, alcohol, or illicit drug use), accuracy of perceptions about youth substance use, parents' perceived susceptibility of their own youth to substance use, parents' self-efficacy to influence their youth's substance use, intervention activities among parents aware of their youth's substance use, treatment-seeking for their youth's substance use, and parenting skills. In addition, information will be collected from youths aged 12 to 18 living with surveyed parents about involvement in drug-free activities, their parents' parenting skills, parent-child communication, perceived risk/harm from youth substance use, accuracy of perceptions about youth substance use, association with drug-using peers, perceived susceptibility to substance use and intentions to use substances, substance use, exposure to prevention program activities, and demographic characteristics. Implementation evaluation data will be collected primarily through questionnaires mailed to parent leaders and parent volunteers delivering the program, and impact evaluation data will be collected via computer-assisted telephone interview (CATI) with parents and their children aged 12 to 18 who attend treatment or control schools.

Dated: May 19, 2004.
David Reingold,
Director, Research and Policy Development.

[FR Doc. 04-11868 Filed 5-25-04; 8:45 am]

BILLING CODE 6050-$$-P